DEPARTMENT OF ENERGY

Federal Energy Regulatory Commission

[Docket No. RP01-387-000]

Texas Eastern Transmission, LP; Notice of Proposed Changes in FERC Gas Tariff

May 1, 2001.

Take notice that on April 26, 2001, Texas Eastern Transmission, LP (Texas Eastern) tendered for filing as part of its FERC Gas Tariff, Seventh Revised Volume No. 1 and First Revised Volume No. 2, revised tariff sheets to be effective June 1, 2001 as listed on Appendix A to the filing.

Texas Eastern states that the purpose of this filing is to increase the ASA Usage Surcharge from zero to the various amounts, by zone, shown on Appendix B. For transportation from the East La Zone to the M-3 Zone, the ASA Usage Surcharge is proposed to be set at $0.0354 per dth. The need to increase the ASA Usage Surcharge at this time is the result of the significant increase in the Applicable Shrinkage Deferred Account balance from $26,602 as of August 31, 2000 to $22,625,398 as of March 31, 2001. In order to ameliorate the impact on customers' rates of this buildup in the Applicable Shrinkage Deferred Account balance, Texas Eastern is proposing to commerce recovery of such costs effective June 1, 2001, rather that waiting until December 1, 2001. The practical result of commencing recovery of those costs effective June 1, 2001 is to spread the recovery of such costs over eighteen months (June 1, 2001 through November 30, 2002) rather than 12 months (December 1, 2001 through November 30, 2002) if Texas Eastern waited until its October 31, 2001 annual ASA filing.

Texas Eastern states that copies of its filing have been mailed to all affected customers and interested state commissions.

Any person desiring to be heard or to protest said filing should file a motion to intervene or a protest with the Federal Energy Regulatory Commission, 888 First Street, N.W., Washington, D.C. 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11348 Filed 5-4-01; 8:45 am]

BILLING CODE 6717-01-M